DEPARTMENT OF HEALTH AND HUMAN SERVICES

Centers for Medicare & Medicaid Services

[Document Identifier: CMS-10434]

Agency Information Collection Activities: Submission for OMB Review; Comment Request

AGENCY: Centers for Medicare & Medicaid Services, HHS.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: New collection (request for a new OMB control number). Title of Information Collection: Medicaid and CHIP Program (MACPro). Use: Medicaid, authorized by Title XIX of the Social Security Act and, CHIP, reauthorized by the Children's Health Insurance Program Reauthorization Act of 2009 (CHIPRA), play an important role in financing health care for approximately 48 million people throughout the country. By 2014, it is expected that an additional 16 million people will become eligible for Medicaid and CHIP as a result of the Affordable Care Act (Pub. L. 111-148). In order to implement the statute, CMS must provide a mechanism to ensure timely approval of Medicaid and CHIP state plans, waivers and demonstrations, and provide a repository for all Medicaid and CHIP program data that supplies data to populate Healthcare.gov and other required reports. Additionally, 42 CFR 430.12 sets forth the authority for the submittal and collection of state plans and plan amendment information. Pursuant to this requirement, CMS has created the MACPro system.

Generally, MACPro will be used by both state and CMS officials to: Improve the state application and federal review processes, improve federal program management of Medicaid programs and CHIP, and standardize Medicaid program data. More specifically, it will be used by state agencies to (among other things): (1) Submit and amend Medicaid state plans, CHIP state plans, and Information System Advanced Planning Documents, and (2) submit applications and amendments for state waivers, demonstration, and benchmark and grant programs. It will be used by CMS to (among other things): (1) Provide for the review and disposition of applications, and (2) monitor and track application activity.

A paper-based version of the MACPro instrument would be sizable and time consuming for interested parties to follow as a paper-based instrument. In our effort to provide the public with the most efficient means to make sense of the MACPro system, we held four webinars in lieu of including a paper-based version of MACPro. Those webinars were associated with our 60-day Federal Register notice (June 8, 2012; 77 FR 34046). The following changes have been made subsequent to the publication of that notice:

• MACPro will be used to create the data feed for updating Healthcare.gov based on changes from state plan and CHIP eligibility. This effort is in support of the Federally-facilitated Exchange (FFE) to conduct assessments of eligibility for state Medicaid and CHIP.

• Section 1115 Waiver Demonstration and Medicaid Eligibility authorities will no longer be part of the phase 1 release. They will be included in the subsequent releases of the system.

Consequently, this first phase will only include CHIP Eligibility and Alternative Benchmark Plans (ABP) portions/modules.

The webinar associated with this 30-day Federal Register notice will be made available for public review/comment at any time/date in this notice's public comment period. The webinar can be accessed on the Internet at: http://www.medicaid.gov/State-Resource-Center/Medicaid-and-CHIP-Program-Portal/Medicaid-and-CHIP-Program-Portal.htm. A login and password is not necessary. Form Number: CMS-10434 (OCN: 0938-New). Frequency: Annual and once. Affected Public: State, Local, or Tribal Governments. Number of Respondents: 56. Total Annual Responses: 411. Total Annual Hours: 10,490. (For policy questions regarding this collection contact Darlene Anderson at 410-786-9828. For all other issues call 410-786-1326.)

To obtain copies of the supporting statement and any related forms for the proposed paperwork collections referenced above, access CMS Web site address at http://www.cms.hhs.gov/PaperworkReductionActof1995, or Email your request, including your address, phone number, OMB number, and CMS document identifier, to Paperwork@cms.hhs.gov, or call the Reports Clearance Office on (410) 786-1326.

To be assured consideration, comments and recommendations for the proposed information collections must be received by the OMB desk officer at the address below, no later than 5 p.m. on January 22, 2013.

OMB, Office of Information and Regulatory Affairs, Attention: CMS Desk Officer, Fax Number: (202) 395-6974, Email: OIRA_submission@omb.eop.gov.

Dated: December 17, 2012.
Martique Jones,
Deputy Director, Regulations Development Group, Office of Strategic Operations and Regulatory Affairs.

[FR Doc. 2012-30748 Filed 12-20-12; 8:45 am]

BILLING CODE 4120-01-P